DEPARTMENT OF THE INTERIOR

Bureau of Reclamation

Status Report of Water Service, Repayment, and Other Water-Related Contract Actions

AGENCY: Bureau of Reclamation, Interior.

ACTION: Notice.

SUMMARY: Notice is hereby given of contractual actions that have been proposed to the Bureau of Reclamation (Reclamation) and were pending through December 31, 2009, and contract actions that have been completed or discontinued since the last publication of this notice on November 6, 2009. From the date of this publication, future notices during this calendar year will be limited to new, modified, discontinued, or completed contract actions. This annual notice should be used as a point of reference to identify changes in future notices. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Services Division, Bureau of Reclamation, P.O. Box 25007, Denver, Colorado 80225-0007; telephone 303-445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Used in this Document

ARRA—American Recovery and Reinvestment Act of 2009

BCP—Boulder Canyon Project

Reclamation—Bureau of Reclamation

CAP—Central Arizona Project

CVP—Central Valley Project

CRSP—Colorado River Storage Project

FR—Federal Register

IDD—Irrigation and Drainage District

ID—Irrigation District

LCWSP—Lower Colorado Water Supply Project

M&I—Municipal and Industrial

NMISC—New Mexico Interstate Stream Commission

O&M—Operation and Maintenance

P-SMBP—Pick-Sloan Missouri Basin Program

PPR—Present Perfected Right

RRA—Reclamation Reform Act of 1982

SOD—Safety of Dams

SRPA—Small Reclamation Projects Act of 1956

USACE—U.S. Army Corps of Engineers

WD—Water District

Pacific Northwest Region: Bureau of Reclamation, 1150 North Curtis Road, Suite 100, Boise, Idaho 83706-1234, telephone 208-378-5344.

1. Irrigation, M&I, and Miscellaneous Water Users; Idaho, Oregon, Washington, Montana, and Wyoming: Temporary or interim irrigation and M&I water service, water storage, water right settlement, exchange, miscellaneous use, or water replacement contracts to provide up to 10,000 acre-feet of water annually for terms up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project Idaho; Clark and Edwards Canal and Irrigation Company, Enterprise Canal Company, Ltd., Lenroot Canal Company, Liberty Park Canal Company, Poplar ID, all in the Minidoka Project, Idaho; and Juniper Flat District Improvement Company, Wapinitia Project, Oregon: Amendatory repayment and water service contracts; purpose is to conform to the RRA.

5. Palmer Creek Water District Improvement Company, Willamette Basin Project, Oregon: Irrigation water service contract for approximately 13,000 acre-feet.

6. Queener Irrigation Improvement District, Willamette Basin Project, Oregon: Renewal of long-term water service contract to provide up to 2,150 acre-feet of stored water from the Willamette Basin Project (a USACE project) for the purpose of irrigation within the District's service area.

7. West Extension ID, Umatilla Project, Oregon: Contract for long-term boundary expansion to include lands outside Federally recognized District boundaries.

8. Greenberry ID, Willamette Basin Project, Oregon: Irrigation water service contract for approximately 14,000 acre-feet of project water.

9. Six water user entities of the Arrowrock Division, Boise Project, Idaho: Repayment agreements with districts with spaceholder contracts for repayment, per legislation, of the reimbursable share of costs to rehabilitate Arrowrock Dam Outlet Gates under the O&M program.

10. Five irrigation water user entities, Rogue River Basin Project, Oregon: Long-term contracts for exchange of water service with five entities for the provision of up to 1,163 acre-feet of stored water from Applegate Reservoir (a USACE project) for irrigation use in exchange for the transfer of out-of-stream water rights from the Little Applegate River to instream flow rights with the State of Oregon for instream flow use.

11. Cowiche Creek Water Users Association and Yakima-Tieton ID, Yakima Project, Washington: Warren Act contract to allow the use of excess capacity in Yakima Project facilities to convey up to 1,583.4 acre-feet of nonproject water for irrigation of approximately 396 acres of nonproject land.

12. State of Washington, Columbia Basin Project, Washington: Long-term contract for up to 25,000 acre-feet of project water to substitute for State-issued permits for M&I purposes with an additional 12,500 acre-feet of project water to be made available to benefit stream flows and fish in the Columbia River under this contract or a separate operating agreement.

13. East Columbia Basin ID, Columbia Basin Project, Washington: Supplement No. 3 to the 1976 Master Water Service Contract providing for the delivery of up to 30,000 acre-feet of project water for irrigation of 10,000 acres located within the Odessa Subarea with an additional 15,000 acre-feet of project water to be made available to benefit stream flows and fish in the Columbia River under this contract or a separate operating agreement.

14. Willow Creek Group, Willow Creek Project, Oregon: Irrigation water service contract for up to 2,500 acre-feet of project water.

15. Prineville Reservoir water users, Crooked River Project, Oregon: Repayment agreements with spaceholder contractors for reimbursable cost of SOD modifications to Arthur R. Bowman Dam.

16. Burley and Minidoka IDs, Minidoka Project, Idaho: Contracts for the repayment of extraordinary O&M work on the spillway structure and canal headworks of Minidoka Dam pursuant to Public Law 111-11.

17. Water user entities responsible for payment of O&M costs for Reclamation projects in Idaho, Montana, Oregon, Washington, and Wyoming: Contracts for extraordinary maintenance and replacement funded pursuant to ARRA.

18. Water user entities responsible for payment of O&M costs for Reclamation projects in Idaho, Montana, Oregon, Washington, and Wyoming: Contracts for extraordinary maintenance and replacement funded pursuant to Subtitle G of Public Law 111-11.

Mid-Pacific Region: Bureau of Reclamation, 2800 Cottage Way, Sacramento, California 95825-1898, telephone 916-978-5250.

1. Irrigation water districts, individual irrigators, M&I and miscellaneous water users; California, Nevada, and Oregon: Temporary (interim) water service contracts for available project water for irrigation, M&I, or fish and wildlife purposes providing up to 10,000 acre-feet of water annually for terms up to 5 years; temporary Warren Act contracts for use of project facilities for terms up to 1 year; temporary conveyance agreements with the State of California for various purposes; long-term contracts for similar service for up to 1,000 acre-feet annually.

2. Contractors from the American River Division, Cross Valley Canal, San Felipe Division, West San Joaquin Division, and Elk Creek Community Services District, CVP, California: Renewal of 29 long-term water service contracts; water quantities for these contracts total in excess of 2.1M acre-feet. These contract actions will be accomplished through long-term renewal contracts pursuant to Public Law 102-575. Prior to completion of negotiation of long-term renewal contracts, existing interim renewal water service contracts may be renewed through successive interim renewal of contracts. Execution of long-term renewal contracts have been completed for the Friant, Delta, Shasta, and Trinity River Divisions. Long-term renewal contract execution is continuing for the other contractors.

3. Redwood Valley County WD, SRPA, California: Restructuring the repayment schedule pursuant to Public Law 100-516.

4. El Dorado County Water Agency, CVP, California: M&I water service contract to supplement existing water supply. Contract will provide for an amount not to exceed 15,000 acre-feet annually authorized by Public Law 101-514 for El Dorado County Water Agency. The supply will be subcontracted to El Dorado ID and Georgetown Divide Public Utility District.

5. Sutter Extension WD, Delano-Earlimart ID, and the State of California Department of Water Resources, CVP, California: Pursuant to Public Law 102-575, cooperative agreements with non-Federal entities for the purpose of providing funding for CVP refuge water wheeling facility improvements to provide water for refuge and private wetlands.

6. CVP Service Area, California: Temporary water purchase agreements for acquisition of 20,000 to 200,000 acre-feet of water for fish and wildlife purposes as authorized by Public Law 102-575 for terms of up to 3 years.

7. El Dorado ID, CVP, California: Execution of long-term Warren Act contracts for conveyance of nonproject water (one contract for Weber Reservoir and pre-1914 ditch rights in the amount of 4,560 acre-feet annually, and one contract for Project 184 water in the amount of 17,000 acre-feet annually). The contracts will allow CVP facilities to be used to deliver nonproject water to the District for use within its service area.

8. Horsefly, Klamath, Langell Valley, and Tulelake IDs, Klamath Project, Oregon: Repayment contracts for SOD work on Clear Lake Dam. These districts will share in repayment of costs, and each district will have a separate contract.

9. Casitas Municipal WD, Ventura Project, California: Repayment contract for SOD work on Casitas Dam.

10. Warren Act Contracts, CVP, California: Execution of long-term Warren Act contracts (up to 25 years) with various entities for conveyance of nonproject water in the Delta and Friant Divisions and San Luis Unit facilities.

11. Tuolumne Utilities District (formerly Tuolumne Regional WD), CVP, California: Long-term water service contract for up to 9,000 acre-feet from New Melones Reservoir, and possibly long-term contract for storage of nonproject water in New Melones Reservoir.

12. Banta Carbona ID, CVP, California: Long-term Warren Act contract for conveyance of nonproject water in the Delta-Mendota Canal.

13. Byron-Bethany ID, CVP, California: Long-term Warren Act contract for conveyance of nonproject water in the Delta-Mendota Canal.

14. Madera-Chowchilla Water and Power Authority, CVP, California: Agreement to transfer the operation, maintenance, and replacement and certain financial and administrative activities related to the Madera Canal and associated works.

15. Montecito WD, Cachuma Project, California: Contract to transfer title of the distribution system to the District. Title transfer authorized by Public Law 108-315, “Carpinteria and Montecito Water Distribution Conveyance Act of 2004.”

16. Sacramento Suburban WD, CVP, California: Execution of long-term Warren Act contract for conveyance of 29,000 acre-feet of nonproject water. The contract will allow CVP facilities to be used to deliver nonproject water provided from the Placer County Water Agency to the District for use within its service area.

17. Town of Fernley, State of California, City of Reno, City of Sparks, Washoe County, State of Nevada, Truckee-Carson ID, and any other local interest or Native American Tribal Interest who may have negotiated rights under Public Law 101-618; Nevada and California: Contract for the storage of non-Federal water in Truckee River reservoirs as authorized by Public Law 101-618 and the Preliminary Settlement Agreement. The contracts shall be consistent with the Truckee River Water Quality Settlement Agreement and the terms and conditions of the Truckee River Operating Agreement.

18. San Joaquin Valley National Cemetery, U.S. Department of Veteran Affairs, Delta Division, CVP, California: Renewal of the long-term water service contract for up to 850 acre-feet. The contract was executed February 28, 2005. The wheeling agreement for conveyance through the California State Aqueduct is pending.

19. A Canal Fish Screens, Klamath Project, Oregon: Negotiation of an O&M contract for the A Canal Fish Screens with Klamath ID.

20. Ady Canal Headgates, Klamath Project, Oregon: Transfer of operational control to Klamath Drainage District of the headgates located at the railroad. Reclamation does not own the land at the headgates, only operational control pursuant to a railroad agreement.

21. Delta Lands Reclamation District No. 770, CVP, California: Long-term Warren Act contract for conveying up to 300,000 acre-feet acre of nonproject flood flows via the Friant-Kern Canal for flood control purposes.

22. Pershing County Water Conservation District, Pershing County, Lander County, and the State of Nevada; Humboldt Project; Nevada: Title transfer of lands and features of the Humboldt Project.

23. Mendota Wildlife Area, CVP, California: Reimbursement agreement between the California Department of Fish and Game and Reclamation for conveyance service costs to deliver Level 2 water to the Mendota Wildlife Area during infrequent periods when the Mendota Pool is down due to unexpected but needed maintenance. This action is taken pursuant to Public Law 102-575, Title 34, Section 3406(d)(1), to meet full Level 2 water needs of the Mendota Wildlife Area.

24. Mercy Springs WD, CVP, California: Proposed partial assignment of 2,825 acre-feet of the District's CVP supply to San Luis WD for irrigation M&I use.

25. Oro Loma WD, CVP, California: Proposed partial assignment of 4,000 acre-feet of the District's CVP supply to Westlands WD for irrigation and M&I use.

26. San Luis WD, CVP, California: Proposed partial assignment of 2,400 acre-feet of the District's CVP supply to Santa Nella County WD for M&I use.

27. Placer County Water Agency, CVP, California: Proposed exchange agreement under section 14 of the 1939 Act to exchange up to 71,000 acre-feet annually of the Agency's American River Middle Fork Project water for use by Reclamation, for a like amount of CVP water from the Sacramento River for use by the Agency.

28. Eighteen contractors in the Klamath Project, Oregon: Amendment of 18 repayment contracts or negotiation of new contracts to allow for recovery of additional capital costs to the Klamath Project. These contract actions will be accomplished through amendments to the existing repayment contracts or negotiation of new contracts.

29. Orland Unit Water User's Association, Orland Project, California: Repayment contract for the SOD costs assigned to the irrigation of Stony Gorge Dam.

30. Goleta WD, Cachuma Project, California: An agreement to transfer title of the Federally owned distribution system to the District subject to approved legislation.

31. Ivanhoe ID, CVP, California: Proposed partial assignment of 1,200 acre-feet of class 1 and 7,400 acre-feet of class 2 of the District's CVP water supply to Kaweah Delta Conservation District, a non-CVP contractor, for irrigation purposes.

32. Cawelo WD, CVP, California: Long-term Warren Act contract for conveying up to 20,000 acre-feet annually of previously banked nonproject water in the Friant-Kern Canal.

33. Colusa County WD, CVP, California: Execution of a long-term Warren Act contract for conveyance of up to 40,000 acre-feet of groundwater per year through the use of the Tehama-Colusa Canal.

34. County of Tulare, CVP, California: Proposed assignment of the County's Cross Valley Canal water supply in the amount of 5,308 acre-feet to its various subcontractors. Water will be used for both irrigation and M&I purposes.

35. City of Santa Barbara, Cachuma Project, California: Execution of a temporary contract and execution of a long-term Warren Act contract with the City for conveyance of nonproject water in Cachuma Project facilities.

36. Water user entities responsible for payment of O&M costs for Reclamation projects in California, Nevada, and Oregon: Contracts for extraordinary maintenance and replacement funded pursuant to ARRA.

37. Water user entities responsible for payment of O&M costs for Reclamation projects in California, Nevada, and Oregon: Contracts for extraordinary maintenance and replacement funded pursuant to Subtitle G of Public Law 111-11.

38. California Department of Fish and Game, CVP, California: Proposed renewal of a water service contract for the Department's San Joaquin Fish Hatchery. The contract would allow 35 cubic feet per second of continuous flow to pass through the Hatchery prior to it returning to the San Joaquin River.

39. Cachuma Operation and Maintenance Board, Cachuma Project, California: Amendment to SOD Contract No. 01-WC-20-2030 to provide for increased SOD costs associated with Bradbury Dam.

40. Contractors from the Friant Division, CVP, California: Contracts to be negotiated and executed with existing Friant long-term contractors for the conversion from water service contracts entered into pursuant to subsections 9(c) and 9(e) of the Reclamation Projects Act of 1939 to repayment contracts pursuant to subsection 9(d) of the Reclamation Projects Act of 1939. This action is intended to satisfy the mandate set forth in section 10010 of Title X of the Omnibus Public Land Management Act of 2009.

41. Reclamation will become signatory to a three-party wheeling agreement with the Cross Valley Contractors and the California State Department of Water Resources for conveyance of Cross Valley Contractors' CVP water supplies that are made available pursuant to long-term water service contracts.

42. California Department of Water Resources, CVP, California: Proposed operation, maintenance, repair, and replacement agreement with the Department for the Delta-Mendota Canal-California Aqueduct Intertie, as authorized by Public Law 108-361.

43. Westlands WD, CVP, California: Negotiation and execution of a long-term repayment contract to provide reimbursement of costs related to the construction of drainage facilities. This action is being undertaken to satisfy the Federal Government's obligation to provide drainage service to Westlands located within the San Luis Unit of the CVP.

The following action has been discontinued since the last publication of this notice on November 6, 2009:

1. (23) PacifiCorp, Klamath Project, Oregon: Execution of long-term agreement for lease of power privilege and the O&M of Link River Dam. This agreement will provide for operations of Link River Dam, coordinated operations with the non-Federal Keno Dam, and provision of power by PacifiCorp for Klamath Project purposes to ensure project water deliveries and to meet Endangered Species Act requirements.

Lower Colorado Region: Bureau of Reclamation, P.O. Box 61470 (Nevada Highway and Park Street), Boulder City, Nevada 89006-1470, telephone 702-293-8192.

1. Milton and Jean Phillips, BCP, Arizona: Colorado River water delivery contract for 60 acre-feet of Colorado River water per year as recommended by the Arizona Department of Water Resources.

2. John J. Peach, BCP, Arizona: Colorado River water delivery contracts for 456 acre-feet of Colorado River water per year as recommended by the Arizona Department of Water Resources.

3. Gila Project Works, Gila Project, Arizona: Title transfer of facilities and certain lands in the Wellton-Mohawk Division from the United States to the Wellton-Mohawk IDD.

4. System Conservation Agreements, BCP, Arizona and California: Develop and execute short-term agreements to implement a demonstration system conservation program to evaluate the feasibility of acquiring water through a voluntary land fallowing program to replace drainage water currently being bypassed to the Cienega de Santa Clara.

5. City of Yuma, BCP, Arizona: Supplemental and amendatory contract to provide for additional point of delivery for a new pump station to be constructed on the Gila Gravity Main Canal, with initial intake capacity of 20 million gallons per day, building up to 40 million gallons per day at full design capacity.

6. White Mountain Apache Tribe, Miner Flat Project, Arizona: Execution of a contract to repay any amounts loaned to the Tribe pursuant to Section 3 of Public Law 110-390.

7. Gila Monster Farms, Inc., BCP, Arizona: Request for partial assignment and transfer of third-priority water entitlement for domestic use to Aursa, AZ I, LLC.

8. Gila Monster Farms, Inc., BCP, Arizona: Amend contract to decrease Gila Monster Farms' third-priority water entitlement.

9. Aursa, AZ I, LLC, BCP, Arizona: Enter into a new Section 5 contract with Aursa for 2,126 acre-feet per year of third-priority water being assigned to Aursa from Gila Monster Farms.

10. Arizona State Lands Department, BCP, Arizona: Amend Contract No. 4-07-30-W0317 to decrease the Department's fourth-priority agricultural water entitlement that is being assigned to the Department's fourth-priority domestic water entitlement Contract No. 7-07-30-W0358 to change the type of use from agricultural to domestic use.

11. Arizona State Lands Department, BCP, Arizona: Amend the Department's Contract No. 7-07-30-W0358 to increase the Department's fourth-priority water entitlement for domestic use.

12. Clark County, BCP, Nevada: Agreement with Clark County for an annual diversion of up to 50 acre-feet of Colorado River water from Reclamation's Secretarial Reservation Entitlement for use on Reclamation land that is managed by Clark County and is part of the Laughlin Regional Heritage Greenway Train Project. Specifically, the water will be used for a natural bathing area (lagoon), construction, dust control, and riparian re-vegetation, which are all features of the Reclamation-approved project.

13. ChaCha, LLC, Arizona, BCP: Partial assignment of the water delivery contract with ChaCha, LLC for transfer of ownership of 50 percent of the land within ChaCha LLC's contract service area. ChaCha LLC's 50 percent ownership will transfer to the following entities (undivided interest): Befra Farming, LLC, a California limited liability company; R&R Almond Orchards, Inc., a California corporation; and XLNT, LLC, a California limited liability company.

14. City of Needles and the Metropolitan Water District of Southern California, LCWSP, California: Proposed amendment No. 1 to Contract No. 06-XX-30-W0452 to extend the timeframe for completion of a study that is required by the contract and to address the deposits to be made by the District into the trust fund account.

15. Sherrill Ventures, LLLP and Green Acres Mohave, LLC; BCP; Arizona: Draft contracts for PPR No. 14 for 1,080 acre-feet of water per year as follows: Sherrill Ventures, LLLP, a draft contract for 954.3 acre-feet per year and Green Acres Mohave, LLC, a draft contract for 125.7 acre-feet per year.

16. Water user entities responsible for payment of O&M costs for Reclamation projects in Arizona, California, Nevada, and Utah: Contracts for extraordinary maintenance and replacement funded pursuant to ARRA.

17. Water user entities responsible for payment of O&M costs for Reclamation projects in Arizona, California, Nevada, and Utah: Contracts for extraordinary maintenance and replacement funded pursuant to Subtitle G of Public Law 111-11.

18. Arizona-American Water Company, BCP, Arizona: Amend Exhibit C to Contract No. 00-XX-30-W0391 to include an emergency interconnection with Lake Havasu City as a point of delivery.

19. Mohave County Water Authority, BCP, Arizona: Amend Exhibit D to Contract No. 5-07-30-W0320 to (1) delete the reference to a subcontract dated August 12, 2004, with Arizona-American Water Company for 950 acre-feet of fifth- and/or sixth-priority water because that subcontract has been terminated; (2) recognize that an additional 1,000 acre-feet of fourth-priority water was added under a subcontract with Bullhead City from 6,000 acre-feet of fourth-priority water to 7,000 acre-feet of fourth-priority water; (3) recognize that an additional 1,000 acre-feet of fourth-priority water was added under a subcontract with Lake Havasu City from 6,000 acre-feet of fourth-priority water to 7,000 acre-feet of fourth-priority water; and (4) recognize that a new subcontract has been entered into between the Authority and Mohave Valley IDD for 1,000 acre-feet of fourth-priority water.

20. Mohave County Water Authority, BCP, Arizona: Amend Exhibit E to Contract No. 5-07-30-W0320 to (1) supersede and replace the “Procedures for Obtaining a Subcontract From the Mohave County Water Authority” dated December 12, 1995, with “Mohave County Water Authority—Operating Procedure No. 04-01” amended October 21, 2009, and (2) include a copy of “Mohave County Water Authority—Operating Procedure No. 09-01” adopted October 21, 2009.

21. Water Utility of Greater Buckeye, CAP, Arizona: Proposed assignment of the Utility's CAP entitlement of 43 acre-feet annually to the Valencia Water Company per the Utility's request and as recommended by the Arizona Department of Water Resources.

22. Tonto Hills Utility Company, CAP, Arizona: Proposed assignment of the Company's CAP entitlement of 71 acre-feet annually to the Tonto Hills Domestic Water Improvement District per the District's request pending recommendation by the Arizona Department of Water Resources.

23. Bureau of Land Management, LCWSP, California: Amend Contract No. 8-07-30-W0375 to add a new point of diversion and place of use; San Bernardino County's Park Moabi, a Bureau of Land Management-leased site.

24. Imperial ID, Colorado River Front Work and Levee System/BCP, California: Proposed agreement for the operation, maintenance, repair and replacement of the Lower Colorado River Drop 2 Storage Reservoir Project.

The following actions have been completed since the last publication of this notice on November 6, 2009:

1. (6) Basic Water Company, BCP, Nevada: Approve the assignment and transfer of 400 acre-feet per year of Colorado River water from Basic's contract to the Southern Nevada Water Authority's contract. Contract executed December 29, 2009.

2. (7) Basic Water Company, BCP, Nevada: Amend Basic's contract to conform to the assignment and transfer of 400 acre-feet per year of Colorado River water from Basic's contract to the Southern Nevada Water Authority's contract. Contract executed December 29, 2009.

3. (8) Southern Nevada Water Authority, BCP, Nevada: Amend contract to conform to the assignment and transfer of 400 acre-feet per year of Colorado River water from Basic Water Company's contract to Southern Nevada Water Authority's contract. Contract executed December 28, 2009.

4. (9) Flowing Wells ID, CAP, Arizona: Partial assignment of the District's CAP entitlement, 1,481 acre-feet to the Town of Marana, per the District's request and as recommended by the Arizona Department of Water Resources. Contract executed December 28, 2009.

5. (15) Queen Creek Water Company, CAP, Arizona: Assignment of Queen Creek Water Company's 348 acre-feet entitlement to the Town of Queen Creek, per Queen Creek Water Company's request and as recommended by the Arizona Department of Water Resources. Contract executed on November 2, 2009.

Upper Colorado Region: Bureau of Reclamation, 125 South State Street, Room 6107, Salt Lake City, Utah 84138-1102, telephone 801-524-3864.

1. Individual irrigators, M&I, and miscellaneous water users; Initial Units, CRSP; Utah, Wyoming, Colorado, and New Mexico: Temporary (interim) water service contracts for surplus project water for irrigation or M&I use to provide up to 10,000 acre-feet of water annually for terms up to 10 years; long-term contracts for similar service for up to 1,000 acre-feet of water annually.

(a) Dick Morfitt, Aspinall Storage Unit, CRSP: Mr. Morfitt has requested a 40-year water service contract for 35 acre-feet of M&I water out of the Blue Mesa Reservoir, which requires Mr. Morfitt to present a Plan of Augmentation to the Division 4 Water Court.

(b) Western Gravel, Aspinall Storage Unit, CRSP: Western Gravel has requested a 40-year water service contract for 3 acre-feet of M&I water out of the Blue Mesa Reservoir, which requires them to present a Plan of Augmentation to the Division 4 Water Court.

2. San Juan-Chama Project, New Mexico: The United States, pending passage of The Taos Indian Water Rights Settlement legislation by the Congress, expects to enter into a new repayment contract with the Taos Pueblo, New Mexico for 2,215 acre-feet annually of project water. The Town of Taos and the United States are expected to execute a new contract, or amend an existing repayment contract, for an additional 366 acre-feet annually of project water. The settlement legislation is expected to provide for a third repayment contract for 40 acre-feet of project water to be delivered to the El Prado Water Sanitation District. The United States is holding the remaining 369 acre-feet of project water for potential use in Indian water rights settlements in New Mexico.

3. Various Contractors, San Juan-Chama Project, New Mexico: The United States proposes to lease water from various contractors to stabilize flows in a critical reach of the Rio Grande in order to meet the needs of irrigators and preserve habitat for the silvery minnow.

4. Uncompahgre Valley Water Users Association, Upper Gunnison River Water Conservancy District, and the Colorado River Water Conservation District; Uncompahgre Project; Colorado: Water management agreement for water stored at Taylor Park Reservoir and the Wayne N. Aspinall Storage Units to improve water management.

5. Southern Ute Indian Tribe, Florida Project, Colorado: Supplement to Contract No. 14-06-400-3038, dated May 7, 1963, for an additional 181 acre-feet of project water, plus 563 acre-feet of project water pursuant to the 1986 Colorado Ute Indian Water Rights Final Settlement Agreement.

6. Individual Irrigators, Carlsbad Project, New Mexico: The United States proposes to enter into long-term forbearance lease agreements with individuals who have privately held water rights to divert nonproject water either directly from the Pecos River or from shallow/artesian wells in the Pecos River Watershed. This action will result in additional water in the Pecos River to make up for the water depletions caused by changes in operations at Sumner Dam which were made to improve conditions for a threatened species, the Pecos bluntnose shiner.

7. L. Skip Vernon and Lee Ann Vernon, Tucumcari Project, New Mexico: The Vernons have requested a Warren Act contract to convey up to 25 acre-feet of nonproject water through Tucumcari Project facilities. The Arch Hurley Conservancy District, which operates the project, concurs with this request. The proposed contract would have a 40-year maximum term.

8. Mancos Water Conservancy District, Mancos Project, Colorado: The Congress has authorized funding, not to exceed $8.25 million, for the Jackson Gulch Rehabilitation Project to include the inlet and outlet canals, and operations facilities. The District will enter into a contract for repayment of 35 percent of the cost of the project or $2.9 million, whichever is less.

9. Provo River Water Users Association, Central Utah Water Conservancy District, Jordan Valley Water Conservancy District, Provo Reservoir Water Users Company, and Bureau of Reclamation: Contributed funds contract to enclose the Provo Reservoir Canal. The contract would have a term of 5 years or completion of enclosure, whichever comes first. This contract is pursuant to the Contributed Funds Act of May 4, 1921 (43 Stat. 1404, 43 U.S.C. 395).

10. LeChee Chapter of the Navajo Nation, Glen Canyon Unit, CRSP, Arizona: Long-term contract for 950 acre-feet of water for municipal purposes.

11. City of Page, Arizona, Glen Canyon Unit, CRSP, Arizona: Long-term contract for 975 acre-feet of water for municipal purposes.

12. El Paso County Water Improvement District No. 1 and Isleta del Sur Pueblo, Rio Grande Project, Texas: Contract to convert up to 1,000 acre-feet of the Pueblo's project irrigation water to use for tradition and religious purposes.

13. Provo River Water Users Association, Central Utah Water Conservancy District, Jordan Valley Water Conservancy District, Provo Reservoir Water Users Company, and Bureau of Reclamation: Carriage contract for up to 358 cfs in the enclosed Provo Reservoir Canal. This contract is pursuant to the Warren Act; section 4 of the Provo River Project Transfer Act (Pub. L. 108-719); and section 2 of the Act of December 19, 2002 (Pub. L. 107-366).

14. Huntington-Cleveland Irrigation Company, Emery County Water Conservancy District, and Reclamation: Amendment to Contract No. 14-06-400-3818 dated November 23, 1964. This contract will include an addition delivery route for Emery County Project water to be delivered to Huntington North Reservoir.

15. Southern Ute Indian Tribe, Animas-La Plata Project, Colorado: Water delivery contract for 33,519 acre-feet of M&I water; contract terms to be consistent with the Colorado Ute Settlement Act Amendments of 2000 (Title III of Pub. L. 106-554).

16. Ute Mountain Ute Tribe, Animas-La Plata Project, Colorado: Water delivery contract for 33,519 acre-feet of M&I water; contract terms to be consistent with the Colorado Ute Settlement Act Amendments of 2000 (Title III of Pub. L. 106-554).

17. State of Colorado, Animas-La Plata Project, Colorado and New Mexico: Cost-sharing/repayment contract for up to 10,440 acre-feet per year of M&I water; contract terms to be consistent with the Colorado Ute Settlement Act Amendments of 2000 (Title III of Pub. L. 106-554).

18. Public Service Company of New Mexico, Reclamation, and the U.S. Fish and Wildlife Service; San Juan River Basin Recovery Implementation Program: The agreement identifies that Reclamation may provide cost-share funding for the recovery monitoring and research, and O&M of the constructed fish passage at the Public Service Company's site pursuant to Public Law 106-392, dated October 30, 2000 (114 Stat. 1602).

19. Central Utah Project, Utah: Petition for project water among the United States, the Central Utah Water Conservancy District, and the Duchesne County Water Conservancy District for use of 2,500 acre-feet of irrigation water from the Bonneville Unit of the Central Utah Project.

20. Navajo Nation, San Juan River Dineh Water Users, Reclamation, and U.S. Fish and Wildlife Service; San Juan River Basin Recovery Implementation Program: The agreement identifies that Reclamation may provide cost-share funding for the recovery monitoring and research, and O&M of the constructed fish passage at the Hogback Diversion Dam, pursuant to Public Law 106-392 dated October 30, 2000 (114 Stat. 1602).

21. Jensen Unit, Central Utah Project, Utah: The Uintah Water Conservancy District has requested a contract with provision to prepay at a discounted rate the remaining 3,300 acre-feet of unmarketed project M&I water.

22. Aaron Million, Million Conservation Resource Group, Flaming Gorge Storage Unit, CRSP: Mr. Million has requested a Standby Contract to secure the first right to contract for up to 165,000 acre-feet annually of M&I water service from Flaming Gorge Reservoir for a proposed privately financed and constructed transbasin diversion project.

23. Cottonwood Creek Consolidated Company, Emery County Project, Utah: Cottonwood Creek Consolidated Irrigation Company has requested a contract for carriage of up to 5,600 acre-feet of nonproject water through Cottonwood Creek-Huntington Canal.

24. Albuquerque Bernalillo County Water Utility Authority and Reclamation, San Juan-Chama Project, New Mexico: Contract to store up to 50,000 acre-feet of project water in Elephant Butte Reservoir. The proposed contract would have a 40-year maximum term and would replace existing Contract No. 3-CS-53-01510 which expired on January 26, 2008. The Act of December 29, 1981, Public Law 97-140, 95 Stat. 1717 provides authority to enter into this contract.

25. Dolores Water Conservancy District, Dolores Project, Colorado: The District has requested a water service contract for 1,402 acre-feet of newly identified project water for irrigation. The proposed water service contract will provide 417 acre-feet of project water for irrigation of the Ute Enterprise and 985 acre-feet for use by the District's full-service irrigators.

26. Florida Water Conservancy District, Florida Project, Colorado: The District has requested a long-term water service contract for 114 acre-feet of water for project purposed to be used in Plan of Augmentation and Substitute Water Supply Plans for the project,

27. Elkhead Reservoir Enlargement: This contract will supersede Contract No. 05-WC-40-420. The proposed contract will include the Recovery Program's pro-rata share of the actual construction cost plus fish screen costs. Also identified in this proposed contract is the pro-rata share of the actual construction costs for the other signatory parties. Upon payment by Recovery Program, this proposed contract will ensure a permanent water supply for the endangered fish.

28. Bridger Valley Water Conservancy District, Lyman Project, Wyoming: The District has requested that their Meeks Cabin repayment contract be amended from two 25-year contacts to one 40-year contract.

29. City of Santa Fe and Reclamation, San Juan-Chama, New Mexico: Contract to store up to 50,000 acre-feet of project Water in Elephant Butte Reservoir. The proposed contract would have a 25- to 40-year maximum term. The Act of December 29, 1981, Public Law 97-140, 95 Stat. 1717 provides authority to enter into this contract.

30. Water user entities responsible for payment of O&M costs for Reclamation projects in Arizona, Colorado, New Mexico, Texas, Utah, and Wyoming: Contracts for extraordinary maintenance and replacement funded pursuant to ARRA.

31. Water user entities responsible for payment of O&M costs for Reclamation projects in Arizona, Colorado, New Mexico, Texas, Utah, and Wyoming: Contracts for extraordinary maintenance and replacement funded pursuant to Subtitle G of Public Law 111-11.

32. Pine Glen, LLC, Mancos Project, Colorado: Pine Glen LLC has requested a new carriage contract to replace existing Contract No. 14-06-400-4901, Assignment No. 6. The new contract is the result of a property sale. Remaining interest in the existing assignment is for 0.56 cubic feet per second of nonproject water to be carried through Mancos Project facilities.

33. Navajo-Gallup Water Supply Project, New Mexico: Repayment contract with the City of Gallup for up to 7,500 acre-feet per year of M&I water. Contract terms to be consistent with the Northwestern New Mexico Rural Water Projects Act (Title X of Pub. L. 111-11).

34. Navajo-Gallup Water Supply Project, New Mexico: Repayment contract with the Jicarilla Apache Nation for up to 1,200 acre-feet per year of M&I water. Contract terms to be consistent with the Northwestern New Mexico Rural Water Projects Act (Title X of Pub. L. 111-11).

35. Northwestern New Mexico Rural Water Projects Act, New Mexico: Settlement contract with the Navajo Nation for up to 530,650 acre-feet per year of irrigation and M&I water. Contract terms to be consistent with the Northwestern New Mexico Rural Water Projects Act (Title X of Pub. L. 111-11).

36. Navajo-Gallup Water Supply Project, New Mexico: Cost-sharing agreement with the State of New Mexico. Contract terms to be consistent with the Northwestern New Mexico Rural Water Projects Act (Title X of Pub. L. 111-11).

The following actions have been completed or discontinued since the last publication of this notice on November 6, 2009:

1. (7) La Plata Conservancy District, Animas-La Plata Project, New Mexico: Cost-sharing/repayment contract for up to 1,560 acre-feet per year of M&I water; contract terms to be consistent with the Colorado Ute Settlement Act Amendments of 2000 (Title III of Pub. L. 106-554). Contract executed September 8, 2009.

2. (11) Project Operator, Animas-La Plata Project, Colorado: Contract to transfer the operation, maintenance, and replacement responsibilities of most project facilities to the project operator, pursuant to section 6 of the Reclamation Act of June 17, 1902, and other Federal reclamation laws. Contract executed December 30, 2009.

3. (15) Navajo Nation, Animas-La Plata Project, Colorado and New Mexico: Water delivery contract for 4,680 acre-feet of M&I water; contract terms to be consistent with the Colorado Ute Settlement Act Amendments of 2000 (Title III of Pub. L. 106-554). Action discontinued.

Great Plains Region: Bureau of Reclamation, P.O. Box 36900, Federal Building, 316 North 26th Street, Billings, Montana 59101, telephone 406-247-7752.

1. Individual irrigators, M&I, and miscellaneous water users; Colorado, Kansas, Montana, Nebraska, North Dakota, Oklahoma, South Dakota, Texas, and Wyoming: Temporary (interim) water service contracts for the sale, conveyance, storage, and exchange of surplus project water and nonproject water for irrigation or M&I use to provide up to 10,000 acre-feet of water annually for a term of up to 1 year or up to 1,000 acre-feet of water annually for a term of up to 5 years.

2. Water user entities responsible for payment of O&M costs for Reclamation projects in Colorado, Kansas, Montana, Nebraska, North Dakota, Oklahoma, South Dakota, Texas, and Wyoming: Contracts for extraordinary maintenance and replacement funded pursuant to ARRA.

3. Water user entities responsible for payment of O&M costs for Reclamation projects in Colorado, Kansas, Montana, Nebraska, North Dakota, Oklahoma, South Dakota, Texas, and Wyoming: Contracts for extraordinary maintenance and replacement funded pursuant to Subtitle G of Public Law 111-11.

4. Green Mountain Reservoir, Colorado-Big Thompson Project, Colorado: Water service contracts for irrigation and M&I; contracts for the sale of water from the marketable yield to water users within the Colorado River Basin of western Colorado.

5. Ruedi Reservoir, Fryingpan-Arkansas Project, Colorado: Second round water sales from the regulatory capacity of Ruedi Reservoir. Water service and repayment contracts for up to 17,000 acre-feet annually for M&I use.

6. Garrison Diversion Unit, P-SMBP, North Dakota: Renegotiation of the master repayment contract with Garrison Diversion Conservancy District to conform with the Dakota Water Resources Act of 2000; negotiation of repayment contracts with irrigators and M&I users.

7. Fryingpan-Arkansas Project, Colorado: Consideration of temporary excess capacity contracting in the Fryingpan-Arkansas Project.

8. Municipal Subdistrict of the Northern Colorado Water Conservancy District, Colorado-Big Thompson Project, Colorado: Consideration of a new long-term contract or amendment of contract No. 4-07-70-W0107 with the Municipal Subdistrict and the Northern Colorado Water Conservancy District for the proposed Windy Gap Firming Project.

9. Northern Integrated Supply Project, Colorado-Big Thompson Project, Colorado: Consideration of a new long-term contract with approximately 15 regional water suppliers and the Northern Colorado Water Conservancy District for the Northern Integrated Supply Project.

10. Stutsman County Park Board, Jamestown Unit, P-SMBP, North Dakota: The Board is requesting a contract for minor amounts of water under a long-term contract to serve domestic needs for cabin owners at Jamestown Reservoir, North Dakota.

11. Security Water and Sanitation District, Fryingpan-Arkansas Project, Colorado: Consideration of a request for a long-term contract for the use of excess capacity in the Fryingpan-Arkansas Project.

12. City of Fountain, Fryingpan-Arkansas Project, Colorado: Consideration of a request for a long-term contract for the use of excess capacity in the Fryingpan-Arkansas Project.

13. Colorado Springs Utilities, Colorado-Big Thompson Project, Colorado Springs, Colorado: Consideration of a request for a long-term agreement for water substitution and power interference in the Colorado-Big Thompson Project.

14. LeClair ID, Boysen Unit, P-SMBP, Wyoming: Contract renewal of long-term water service contract.

15. Riverton Valley ID, Boysen Unit, P-SMBP, Wyoming: Contract renewal of long-term water service contract.

16. ExxonMobil Corporation, Ruedi Reservoir, Fryingpan-Arkansas Project, Colorado: Consideration of ExxonMobil Corporation's request to amend its Ruedi Round I contract to include additional uses for the water.

17. Pueblo West Metropolitan District, Pueblo West, Fryingpan-Arkansas Project, Colorado: Consideration of a request for a long-term contract for the use of excess capacity in the Fryingpan-Arkansas Project.

18. Colorado River Water Conservation District, Colorado-Big Thompson Project, Colorado: Long-term exchange, conveyance, and storage contract to implement the Exhibit B Agreement of the Settlement Agreement on Operating Procedures for Green Mountain Reservoir Concerning Operating Limitations and in Resolution of the Petition Filed August 7, 2003, in Case No. 49-CV-2782 (The United States v. Northern Colorado Water Conservancy District, et al., U.S. District Court for the District of Colorado, Case No. 2782 and Consolidated Case Nos. 5016 and 5017).

19. Glendo Unit, P-SMBP, Wyoming: Contract renewal for long-term water storage contract with Pacificorp.

20. Roger W. Evans (Individual), Boysen Unit, P-SMBP, Wyoming: Renewal of long-term water service contract.

21. Big Horn Canal ID, Boysen Unit, P-SMBP, Wyoming: The District has requested the renewal of their long-term water service contract.

22. Hanover ID, Boysen Unit, P-SMBP, Wyoming: The District has requested the renewal of their long-term water service contract.

23. Helena Sand & Gravel, Helena Valley Unit, P-SMBP, Montana: Request for a long-term water service contract for M&I purposes up to 1,000 acre-feet per year.

24. Busk-Ivanhoe, Inc., Fryingpan-Arkansas Project, Colorado: Contract renewal of their long-term carriage and storage contract.

25. State of Colorado, Department of Corrections, Fryingpan-Arkansas Project, Colorado: Consideration of a request for long-term excess capacity storage out of Pueblo Reservoir.

26. Southeastern Water Conservancy District, Fryingpan-Arkansas Project, Colorado: Consideration of a master storage contract.

27. Green Mountain Reservoir, Colorado-Big Thompson Project, Colorado: Consideration of a request for a long-term contract for the use of excess capacity.

28. Municipal Recreation Contract out of Granby Reservoir, Colorado-Big Thompson Project, Colorado: Water service contract for delivery of 5,412.5 acre-feet of water annually out of Lake Granby to the 15-Mile Reach.

29. Glen Elder ID, Glen Elder Unit, P-SMBP, Kansas: Intent to enter into a contract for repayment of extraordinary maintenance work on the spillway structure in accordance with ARRA.

30. Glen Elder ID, Glen Elder Unit, P-SMBP, Kansas: Amendment to extend the expiration date of the water service contract and renewal of long-term water service contract.

31. State of Kansas Department of Wildlife and Parks, Glen Elder Unit, P-SMBP, Kansas: Reclamation is contemplating a contract for the remaining conservation storage in Waconda Lake.

32. Arkansas Valley Conduit, Fryingpan-Arkansas Project, Colorado: Consideration of a repayment contract for the Arkansas Valley Conduit.

33. North Havre County WD, Milk River Project, Montana: Reclamation is contemplating a contract amendment for a change in the point of delivery of a portion of the District's water under contract.

34. Milk River Irrigation Project Joint Board of Control, Milk River Project, Montana: Reclamation is contemplating a new contract for transferring O&M responsibilities of Fresno Dam and Reservoir and Nelson Dikes and Reservoir.

35. State of Wyoming, Pathfinder Dam and Reservoir, North Platte Project, Wyoming: The State of Wyoming has requested a water service contract for water to be stored in Pathfinder Reservoir associated with the implementation of the Pathfinder Modification Project.

36. Loup Valley's Rural Public Power District, North Loup Division, P-SMBP, Nebraska: Proposed sale of Reclamation's share in joint-owned power line to the co-owner of the line.

37. Northern Colorado Water Conservancy District, Colorado Big Thompson Project, Colorado: Intent to enter into a contract for repayment of extraordinary maintenance work on the Pole Hill Canal in accordance with ARRA.

38. Frenchman Valley ID, Frenchman-Cambridge Division, P-SMBP, Nebraska: Consideration of a request for a repayment of extraordinary maintenance work on stilling basin outlet works at Enders Dam, in accordance with Subtitle G of Public Law 111-11.

39. H & RW ID, Frenchman-Cambridge Division, P-SMBP, Nebraska: Consideration of a request for a repayment contract for outlet works modification at Enders Dam, in accordance with the Omnibus Public Lands Management Act of 2009.

40. Individual irrigators, Cambridge Unit, Frenchman-Cambridge Division, P-SMBP, Nebraska: Consideration of a request for a long-term excess capacity conveyance contract for transporting nonproject irrigation water.

41. Southeastern Colorado Water Conservancy District, Fryingpan-Arkansas Project, Colorado: Consideration of a request to amend the existing water service contract to adjust the annual project water payments.

42. Scotty Phillip Cemetery, Mni-Wiconi Project, South Dakota: Consideration of a new long-term M&I water service contract.

43. Barretts Minerals, East Bench Unit, P-SMBP, Montana: Renewal of long-term water service contract.

44. George A. Stevens, Lower Marias Unit, P-SMBP, Montana: Renewal of long-term water service contract.

45. Northern Colorado Water Conservancy District, Colorado Big Thompson Project, Colorado: Amend or supplement the repayment contract to include the Carter Lake Dam Additional Outlet Works and Flatiron Power Plant Bypass facilities.

46. Colorado Springs Utilities, Fryingpan-Arkansas Project, Colorado: Consideration of a request for a long-term contract for the use of excess capacity in the Fryingpan-Arkansas Project and annual repayment for the operation, maintenance, and replacement costs of the single-purpose municipal works.

47. Garrison Diversion Conservancy District, Garrison Diversion Project, North Dakota: Intent to enter into temporary or interim irrigation or miscellaneous use water service contracts to provide up to 1,000 acre-feet of water annually for terms of up to 5 years.

48. Garrison Diversion Conservancy District, Garrison Diversion Unit, P-SMBP, North Dakota: Intent to enter into a project pumping power contract with the District to pump project water to authorized areas in conformance with the Dakota Water Resources Act of 2000.

The following actions have been completed since the last publication of this notice on November 26, 2009:

1. (27) Individual Irrigations, Lower Marias Unit, P-SMBP, Montana: Execute long-term water service contracts for commercial irrigation from Lake Elwell and the Marias River below Tiber Dam. Contract was executed on December 4, 2009.

2. (42) Individual contractors; Canyon Ferry Unit, P-SMBP; Montana: Replace temporary 1-year contracts with short-term water service contracts for minor amounts of less than 1,000 acre-feet of M&I water annually from the Missouri River, Canyon Ferry Dam. Contract was executed on December 4, 2009.

3. (43) Keyhole Country Club; Keyhole Unit, P-SMBP; South Dakota: Reclamation is contemplating a contract reassignment from the Shattuck Hills Homeowner's Association to the Keyhole Country Club. The proposed action will involve a change in the point of delivery for the 50 acre-feet of water under the existing contract. Contract was executed on November 16, 2009.

4. (47) Rocky Mountain National Park, Colorado—Big Thompson Project, Colorado: Amendment to the existing memorandum of understanding for project water. Contract was executed on October 20, 2009.

5. (49) Mirage Flats ID, Mirage Flats Project, Nebraska: Request to amend contract to change billing date from May to July. Contract was executed on October 30, 2009.

Dated: June 11, 2010.
Roseann Gonzales,
Director, Policy and Administration, Denver Office.

[FR Doc. 2010-17933 Filed 7-21-10; 8:45 am]

BILLING CODE 4310-MN-P